ENVIRONMENTAL PROTECTION AGENCY

[FRL-9680-7]

Changes to the Central Data Exchange System

AGENCY: Environmental Protection Agency (EPA).

ACTION: Notice.

SUMMARY: In compliance with the Cross-Media Electronic Reporting Regulation (CROMERR), this notice announces EPA's plan to change its Central Data Exchange (CDX) system, as described in this notice.

DATES: EPA's changes to CDX are effective August 6, 2012.

FOR FURTHER INFORMATION CONTACT: Tina Chen, U.S. Environmental Protection Agency, Office of Environmental Information, Mail Stop MC-2823T, 1200 Pennsylvania Avenue NW., Washington, DC 20460, (202) 566-0248, Chen.Tina@epa.gov.

SUPPLEMENTARY INFORMATION: On October 13, 2005, the final Cross-Media Electronic Reporting Rule was published in the Federal Register (70 FR 59848) and codified as part 3 of title 40 of the Code of Federal Regulations (CFR). CROMERR establishes electronic reporting as an acceptable regulatory alternative to paper reporting and provides requirements to assure that electronic documents are as legally dependable as their paper counterparts. Subpart B of CROMERR sets requirements for electronic reporting to EPA that may be used to satisfy a federal environmental reporting requirement. Specifically, section 3.10 of subpart B requires that electronic documents be submitted to an appropriate EPA electronic document receiving system that has been designated by the Administrator. Additionally, where a paper document must bear a signature under an existing regulation, CROMERR requires that an electronic document that substitutes for the paper document must be signed with a valid electronic signature.

Generally, EPA's designated electronic document receiving system is CDX, which is consistent with the standards for electronic document receiving systems set forth in CROMERR § 3.2000(b) of subpart D. CDX, developed and maintained by the Office of Environmental Information, serves as EPA's gateway for receiving documents electronically from the reporting community. CDX streamlines and consolidates EPA's reporting by offering the reporting community faster, easier, and more secure submission options through a single venue. As a cornerstone of EPA's efforts to advance electronic government, CDX supports electronic submission of environmental data for air, water, waste, and toxic programs from thousands of regulated entities. In developing CROMERR, EPA recognized that CDX would be subject to change over time and that such changes could affect regulated entities that participate in electronic reporting. Therefore, CROMERR subpart B requires EPA to provide notice when the Agency plans to change CDX hardware, software, or services. Section 3.20 of the regulation distinguishes four categories of CDX changes: Significant, Other, De minimis or Transparent and Emergency changes.

Today's notice announces EPA's plans to take advantage of opportunities offered by evolving technologies to improve CDX services by modernizing the user registration process and providing additional user functionality. This change is considered an Other Change under § 3.20(a)(2) of the regulation and requires EPA to provide notice to CDX users at least sixty (60) days in advance of implementation. Specific changes include:

• New user-friendly features that will make CDX registration easier, such as the ability to search for reporting programs and organizations, and activate accounts via email;

• Additional “My CDX” user profile functions, such as the ability to change an account password from the user profile page, a standardized list of security questions, and automated reminders for account password expiration; and

• New user profile page “Alerts” and “News and Updates” sections that will provide CDX users with timely general system information, as well as program specific information.

In accordance with 40 CFR 3.20(a)(2), EPA is providing this notice to CDX users at least sixty (60) days in advance of implementation of the changes described above.

Dated: May 29, 2012.
Connie Dwyer,
Director, Information Exchange and Services Division.

[FR Doc. 2012-13541 Filed 6-4-12; 8:45 am]

BILLING CODE 6560-50-P